GENERAL ACCOUNTING OFFICE

Appointments to the Medicare Payment Advisory Commission

AGENCY: General Accounting Office (GAO).

ACTION: Notice of appointments.

SUMMARY: The Balanced Budget Act of 1997 established the Medicare Payment Advisory Commission (MedPAC) and gave the Comptroller General responsibility for appointing its members. This notice announces six reappointments to fill the vacancies occurring this year.

DATES: Appointments are effective May 1, 2003 through April 30, 2006.

ADDRESSES: GAO—441 G Street, NW., Washington, DC 20548; MedPAC—1601 New Jersey Avenue, NW., Suite 9000, Washington, DC 20001.

FOR FURTHER INFORMATION CONTACT: GAO—Molly Ryan, 202/512-3592; MedPAC—Mark E. Miller, Ph.D., 202/220-3700.

SUPPLEMENTARY INFORMATION: To fill this year's vacancies I am announcing the following: Reappointed members are Glenn M. Hackbarth, J.D. (Chair), Consultant; Robert D. Reischauer, Ph.D. (Vice Chair), President, The Urban Institute; Autry O.V. “Pete” DeBusk, Chairman, Chief Executive Officer, and founder of DeRoyal; Alan R. Nelson, M.D., Special Advisor to the Executive Vice President and Chief Executive Officer, American College of Physicians-American Society of Internal Medicine; David A. Smith, Senior Policy Advisor to the President of the American Federation of Labor-Congress of Industrial Organizations; and Ray E. Stowers, D.O., Director of Rural Health in the Department of Family Medicine at Oklahoma State University College of Osteopathic Medicine.

(Sec. 4022, Pub. L. 105-33, 111 Stat. 251, 350)

David M. Walker,
Comptroller General of the United States.

[FR Doc. 03-13692 Filed 5-30-03; 8:45 am]

BILLING CODE 1610-02-M